DEPARTMENT OF LABOR

Wage and Hour Division

Notice of Approved Agency Information Collection; Information Collection: High-Wage Components of the Labor Value Content Requirements Under USMCA

ACTION: Notice.

SUMMARY: In accordance with the Paperwork Reduction Act (PRA), the Wage and Hour Division (WHD) is providing notice to the public that the WHD sponsored information collection request (ICR) titled, “High-Wage Components of the Labor Value Content Requirements under USMCA,” has been approved by the Office of Management and Budget (OMB). WHD is notifying the public that the information collection has been extended effective immediately through January 31, 2024.

DATES: OMB approval of the extension of this information collection is effective immediately with an expiration date of January 31, 2024.

FOR FURTHER INFORMATION CONTACT: Robert Waterman, Division of Regulations, Legislation, and Interpretations, Wage and Hour, U.S. Department of Labor, Room S-3502, 200 Constitution Avenue NW, Washington, DC 20210; telephone: (202) 693-0406 (this is not a toll-free number), or send an email to WHDPRAComments@dol.gov. Copies of this notice may be obtained in alternative formats (Large Print, Braille, Audio Tape or Disc), upon request, by calling (202) 693-0023 (not a toll-free number). TTY/TDD callers may dial toll-free (877) 889-5627 to obtain information or request materials in alternative formats.

SUPPLEMENTARY INFORMATION: The Department of Labor submitted an emergency processing request for approval of a proposed information collection titled High-Wage Components of the Labor Value Content Requirements under USMCA (OMB Control Number 1235-0032), in conjunction with an Interim Final Rule (IFR). The IFR was published in the Federal Register on July 1, 2020 (85 FR 39782) and invited public comment on all aspects of the rule, including the PRA. On July 2, 2020, OMB approved the Department's emergency processing request and assigned OMB control number 1235-0032 to this collection and an expiration date of January 31, 2021.

Following receipt of OMB's Notice of Action, the Department published a notice in the Federal Register on July 10, 2020, proposing to extend the collection and invited public comment on the information collection (85 FR 41627). A few comments were received related to the Department's recordkeeping requirements. The Department addressed the comments in the supporting statement and submitted the proposal to extend the collection to OMB for review. OMB authorization for an ICR cannot be for more than three (3) years without renewal, and the approval for this collection was scheduled to expire on January 31, 2021. As a result, the Department submitted the information collection to OMB seeking to extend PRA authorization for the information collection for three (3) years. The Department provided notice of the submission of the information collection to OMB in the Federal Register on December 1, 2020 (85 FR 77259).

On January 28, 2021, OMB issued a Notice of Action approving the extension of this information collection under OMB Control Number 1235-0032. Section (k) of 5 CFR 1320.11, “Clearance of Collections of Information in Proposed Rules” states, “After receipt of notification of OMB's approval, instruction to make a substantive or material change to, disapproval of a collection of information, or failure to act, the agency shall publish a notice in the Federal Register to inform the public of OMB's decision.” This notice fulfills the Department's obligation to notify the public of OMB's approval of the information collection request.

Dated: February 16, 2021.
Amy DeBisschop,
Director, Division of Regulations, Legislation, and Interpretation.

[FR Doc. 2021-03912 Filed 2-24-21; 8:45 am]

BILLING CODE 4510-27-P